DEPARTMENT OF THE INTERIOR

National Park Service

National Register of Historic Places; Notification of Pending Nominations

Nominations for the following properties being considered for listing in the National Register were received by the National Park Service before January 6, 2001. Pursuant to section 60.13 of 36 CFR part 60 written comments concerning the significance of these properties under the National Register criteria for evaluation may be forwarded to the National Register, National Park Service, 1849 C St. NW, NC400, Washington, DC 20240. Written comments should be submitted by February 1, 2001.

Carol D. Shull,
Keeper of the National Register.

ALASKA

Anchorage Borough-Census Area

Gill, Oscar, House, 1344 W. 10th Ave., Anchorage, 01000022

Kenai Peninsula Borough-Census Area

Thorn—Stingley House, 1660 E. End Rd., Homer, 01000023

Southeast Fairbanks Borough-Census Area

Rapids Roadhouse, Mile 227.4 Richardson Hwy., Delta, 01000021

Valdez-Cordova Borough-Census Area

Gakona Historic District, Mile 2, Tok Cutoff—Glenn Hwy, Gakona, 01000024

CALIFORNIA

Alameda County

Horner, William, House, 3101 Driscoll Rd., Fremont, 01000026

San Bernardino County

Atchison, Topeka and Santa Fe Railway Passenger and Freight Depot, 1170 W. 3rd St., San Bernardino, 01000025

San Diego County

Lindstrom House, 4669 E. Talmadge Dr., San Diego, 01000027

San Francisco County

Coffin—Redington Building, 301 Folsom St. and 300 Beale St., San Francisco, 01000028

COLORADO

Denver County

Midland Savings Building, 444 17th St., Denver, 01000030

Ray Apartments Buildings, 1550 and 1560 Ogden St., Denver, 01000029

Jefferson County

Bradford House II, N of Killdeer Ln., Littleton, 01000031

Park County

Colorado Salt Works, 3858 US 285, Hartsel, 01000033

Salt Works Ranch,

(Ranching Resources of South Park, Colorado) 3858 US 285, Hartsel, 01000032

FLORIDA

Alachua County

Waldo Historic District, Roughly bounded by NW 1st Ave., Main St., SW 5th Blvd., and SW 4th St., Waldo, 01000034

GEORGIA

Chatham County

Bonaventure Cemetery, Bonaventure Rd., 1 mi. N of US 80, Savannah, 01000035

MISSOURI

St. Louis Independent city

City Hospital Historic District, Roughly bounded by Lafayette Ave., Grattan St., Carroll St., Dillon St., St. Ange St., 14th St., and Carroll St., St. Louis (Independent City), 01000036

MONTANA

Flathead County

Lincoln Creek Snowshoe Cabin, (Glacier National Park MPS) US 2, Glacier National Park, W. Glacier, 01000037

Powell County

Charter Oak Miner and Mill, Forest Rd. 227 B-1, Helena National Forest, USDA Forest Service, Elliston, 01000038

NEW JERSEY

Atlantic County

St. Nicholas of Tolentine Church, 1409 Pacific Ave., Atlantic City, 01000039

Burlington County

Red Dragon Canoe Club, 221 Edgewater Ave., Edgewater Park, 01000041

Salem County

Lawson, James and Mary, House, 209 N. Main St., Woodstown Borough, 01000042

NEW YORK

Broome County

Johnson City Square Deal Arch, Main St., W of Floral Ave., Johnson City, 01000044

Clinton County

Peru Community Church, 12 Elm St., Peru, 01000054

Erie County

Trico Plant #1, 817 Washinton St., Buffalo, 01000053

Oswego County

Mount Adnah Cemetery, 706 East Broadway, Fulton, 01000046

Sullivan County

Rialto Theatre, Broadway, Monticello, 01000043

Ulster County

Ulster Heights Synagogue, Ulter Heights Rd. and Beaver Dam Rd., Ulster Heights, 01000045

NORTH CAROLINA

Washington County

Garrett's Island House, 1445 Garrett's Island Rd., Plymouth, 01000047

OHIO

Butler County

Notre Dame Academy and Notre Dame High School, 926 Second St., Hamilton, 01000048

Clark County

Thomas Manufacturing Company Warehouse, 360 S. Limestone St., Springfield, 01000055

Cuyahoga County

Kundtz, Theodor, Company Building, 2249 Elm St., Cleveland, 01000051

Montgomery County

East Third Street Historic District, (Webster Station Area, Dayton, Ohio MPS) 424-520 East Third St. (S side only), Dayton, 01000049

McCormick Manufacturing Company Building, (Webster Station Area, Dayton, Ohio MPS) 434-438 E. First St., Dayton, 01000050

Scioto County

Anderson Brothers Department Store, (Boneyfiddle MRA) 301-307 Chillicothe St., Portsmouth, 01000052

Stark County

Clearview Golf Club, 8410 Lincoln St. SE, East Canton, 01000056

PENNSYLVANIA

Chester County

White Horse Historic District, Jct. of Goshen and Providence Rds., Willistown Township, 01000058

Lancaster County

Columbia Wagon Works, 920 Plane St., Columbia Borough, 01000057

Schuylkill County

Tamaqua Historic District, Roughly bounded by the Odd Fellows Cemetery, Rowe & Mauch Sts., East End Ave., Mountain Ave., and West Cottage Ave., Tamaqua, 01000059

TEXAS

Atascosa County

Lyons, Frederick and Sallie, House, 801 Live Oak St., Pleasanton, 01000061

Polk County

Polk County Courthouse and 1905 Courthouse Annex, Washington at Church St., Livingston, 01000060

VIRGINIA

Richmond Independent city

Tuckahoe Apartments, 5621 Cary Street Rd., Richmond (Independent City), 01000065

WASHINGTON

Spokane County

City of Cheney, Roughly bounded by Fifth St., C St., Front St., and F St., Cheney, 01000062

Millwood Historic District, Roughly bounded by Argonne and Sargent Rds., and by Euclid and Liberty Aves., Millwood, 01000064

Whatcom County

Sehome Hill Historic District, Portions of Jersey, Key, Liberty, Mason, Newell, E. Myrtle, E. Laurel, and E. Maple Sts., Sehome, 01000063

WEST VIRGINIA

Mason County

Maplewood, 1951 US 35, Pliny, 01000066

A Request for REMOVAL for Procedural Error has been made for the following resource:

COLORADO

El Paso County

North End Historic District, Roughly bounded by Monument Valley Wood, Nevada Ave., Madison and Unitah Sts., Colorado Springs, 82001017

[FR Doc. 01-1327 Filed 1-16-01; 8:45 am]

BILLING CODE 4310-70-P